ENVIRONMENTAL PROTECTION AGENCY

[FRL-7245-9]

EPA Science Advisory Board; Notification of Public Advisory Committee Teleconference Meeting

Summary—Pursuant to the Federal Advisory Committee Act, Public Law 92-463, notice is hereby given that the Environmental Economics Advisory Committee (EEAC) of the EPA Science Advisory Board (SAB), a chartered Federal advisory committee, is announcing that it will meet in a public teleconference on August 12, 2002 from 1 p.m. to 3 p.m. Eastern Time. The meeting will be hosted in Conference Room 6013, U.S. EPA, Ariel Rios Building, 1200 Pennsylvania Avenue, NW., Washington, DC 20004. The meeting is open to the public, however, due to limited space, seating will be on a first-come basis. For further information concerning the meeting or how to obtain the phone number, please contact the individuals listed below.

Purpose of the Teleconference—At the planned teleconference, the EEAC will continue their discussions on the EPA affordability criteria under the Safe Drinking Water Act as amended in 1996. The Committee began its discussions of this issue at its June 13, 2002 meeting, held at the Holiday Inn, Alexandria, Virginia (see 67 FR 20765-20767, April 26, 2002 for additional background information on this meeting).

FOR FURTHER INFORMATION: Members of the public desiring additional information about the meeting, must contact Mr. Thomas Miller, Designated Federal Officer, EPA Science Advisory Board (1400A), Suite 6450, U.S. EPA, 1200 Pennsylvania Avenue, NW., Washington, DC 20460; telephone/voice mail at (202) 564-4558; fax at (202) 501-0323; or via e-mail at miller.tom@epa.gov. A copy of the draft agenda will be posted on the SAB Website (http://www.epa.gov/sab) (under the AGENDAS subheading) approximately 10 days before the meeting.

Members of the public desiring additional information about the meeting location or the call-in number, must contact Ms. Diana Pozun, Program Specialist, EPA Science Advisory Board (1400A), Suite 6450, U.S. EPA, 1200 Pennsylvania Avenue, NW., Washington, DC 20460; telephone/voice mail at (202) 564-4544; fax at (202) 501-0323; or via e-mail at pozun.diana@epa.gov.

Oral Comments—The SAB will have a brief period (no more than 15 minutes) available during the Teleconference meeting for applicable public comment. Members of the public who wish to make a brief oral presentation must contact Mr. Miller in writing (by letter or by fax—see previously stated information) no later than 12 noon Eastern Time, Monday, August 5, 2002, in order to be included on the Agenda. The oral public comment period will be limited to 15 minutes divided among the speakers who register. Registration is on a first come basis, allowing approximately three to five minutes per speaker or organization. Speakers who are unable to register in time, may provide their comments in writing.

Providing Oral or Written Comments at SAB Meetings

It is the policy of the Science Advisory Board to accept written public comments of any length, and to accommodate oral public comments whenever possible. The Science Advisory Board expects that public statements presented at its meetings will not be repetitive of previously submitted oral or written statements. Oral Comments: In general, for conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting. Written Comments: Although the SAB accepts written comments until two days following the date of the meeting (unless otherwise stated above), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 35 copies of their comments for public distribution.

General Information—Additional information concerning the EPA Science Advisory Board, its structure, function, and composition, may be found on our Website (http://www.epa.gov/sab) and in the just-released EPA Science Advisory Board FY2001 Annual Staff Report—Expanding Expertise and Experience which is available from the SAB Publications Staff at (202) 564-4533 or via fax at (202) 501-0256. Committee rosters, draft Agendas and meeting calendars are also located on our website.

Meeting Access—Individuals requiring special accommodation at this meeting, including wheelchair access to the conference room, should contact Mr. Miller at least five business days prior to the meeting so that appropriate arrangements can be made.

Dated: July 9, 2002.
Vanessa Vu,
Director, EPA Science Advisory Board.

[FR Doc. 02-17699 Filed 7-12-02; 8:45 am]

BILLING CODE 6560-50-P